DEPARTMENT OF STATE

[Public Notice: 8813]

In the Matter of the Amendment of the Designation of Harakat ul-Mujahidin, aka Harakat ul-Mujahideen, aka Harakat ul-Ansar, aka Jamiat ul-Ansar, aka HUA, aka HUM, aka al-Hadid, aka al-Hadith, aka al-Faran as a Specially Designated Global Terrorist Entity Pursuant to Executive Order 13224

Based upon a review of the Administrative Record assembled in this matter pursuant to Executive Order 13224 and in consultation with the Attorney General and the Secretary of the Treasury, the Secretary of State concludes that there is a sufficient factual basis to find that Harakat ul-Mujahidin, also known under the aliases listed above, uses or has used additional aliases, namely, Ansar ul-Ummah.

Therefore, the Secretary of State hereby amends the designation of Harakat ul-Mujahidin as a Specially Designated Global Terrorist entity, pursuant to Executive Order 13224, to include the following new aliases and other possible transliterations thereof:

Ansar ul-Ummah.

Dated: July 23, 2014.
John F. Kerry,
Secretary of State.

[FR Doc. 2014-18800 Filed 8-7-14; 8:45 am]

BILLING CODE 4710-10-P